DEPARTMENT OF LABOR

Occupational Safety and Health Administration

[Docket Nos. NRTL4-93, NRTL2-93]

Underwriters Laboratories Inc., Applications for Renewal and Expansion of Recognition; Entela, Inc., Voluntary Withdrawal of Recognition of Site

AGENCY: Occupational Safety and Health Administration (OSHA), Labor.

ACTION: Notice.

SUMMARY: This notice announces the application of Underwriters Laboratories Inc. for renewal of its recognition as a Nationally Recognized Testing Laboratory under 29 CFR 1910.7, and the applications of Underwriters Laboratories Inc. for expansion of its recognition to include additional sites and test standards, and presents the Agency's preliminary finding. This preliminary finding does not constitute an interim or temporary approval of these applications. In an unrelated matter, this notice also includes the voluntary withdrawal of recognition of the Entela, Inc., site in Taipei, Taiwan.

DATES: Comments submitted by interested parties, or any request for extension of the time to comment, must be received no later than April 2, 2002.

ADDRESSES: Submit written comments concerning this notice to: Docket Office, Docket NRTL4-93 or NRTL2-93 (as applicable), U.S. Department of Labor, Occupational Safety and Health Administration, Room N2625, 200 Constitution Avenue, NW., Washington, DC 20210; telephone: (202) 693-2350. Commenters may transmit written comments of 10 pages or less in length by facsimile to (202) 693-1648. Submit request for extensions concerning this notice to: Office of Technical Programs and Coordination Activities, NRTL Program, Occupational Safety and Health Administration, U.S. Department of Labor, Room N3653, 200 Constitution Avenue, NW., Washington, D.C. 20210.

FOR FURTHER INFORMATION CONTACT: Bernard Pasquet, Office of Technical Programs and Coordination Activities, NRTL Program, Room N3653 at the above address, or phone (202) 693-2110.

SUPPLEMENTARY INFORMATION:

Notice of Application

The Occupational Safety and Health Administration (OSHA) hereby gives notice that Underwriters Laboratories Inc. (UL) has applied for renewal and for expansion of its recognition as a Nationally Recognized Testing Laboratory (NRTL). UL's expansion requests cover the use of two additional sites and additional test standards. OSHA's current scope of recognition for UL may be found in the following informational web page: http://www.osha-slc.gov/dts/otpca/nrtl/ul.html.

OSHA recognition of an NRTL signifies that the organization has met the legal requirements in § 1910.7 of Title 29, Code of Federal Regulations (29 CFR 1910.7). Recognition is an acknowledgment that the organization can perform independent safety testing and certification of the specific products covered within its scope of recognition and is not a delegation or grant of government authority. As a result of recognition, employers may use products “properly certified” by the NRTL to meet OSHA standards that require testing and certification.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope. We maintain an informational web page for each NRTL, which details its scope of recognition. These pages can be accessed from our web site at http://www.osha-slc.gov/dts/otpca/nrtl/index.html.

The most recent notice published by OSHA for UL's recognition covered an expansion of recognition to include additional sites, which became effective on December 7, 1999 (64 FR 68389). The other Federal Register notices related to UL's recognition that OSHA has published, since UL's previous renewal, addressed an expansion for additional standards, which was announced on November 21, 1997 (62 FR 62359), and granted on June 24, 1999 (64 FR 33913). The renewal would incorporate all of these recognitions granted to UL.

The current address of the UL facilities (sites) already recognized by OSHA are:

Underwriters Laboratories Inc., 333 Pfingsten Road, Northbrook, Illinois 60062

Underwriters Laboratories Inc., 1285 Walt Whitman Road, Melville, Long Island, New York 11747

Underwriters Laboratories Inc., 1655 Scott Boulevard, Santa Clara, California 95050

Underwriters Laboratories Inc., 12 Laboratory Drive, PO Box 13995, Research Triangle Park, North Carolina 27709

Underwriters Laboratories Inc., 2600 N. W. Lake Road, Camas, Washington, 98607

UL International Limited, Veristrong Industrial Centre, Block B, 14th Floor, 34 Au Pui Wan Street, Fo Tan Sha Tin, New Territories, Hong Kong

UL International Services, Ltd., Taiwan Branch, 4th Floor, 260 Da-Yeh Road, Pei Tou District, Taipei City, Taiwan

UL International Demko A/S, Lyskaer 8, PO Box 514, DK-2730, Herlev, Denmark

Underwriters Laboratory International (U.K.) Ltd., Wonersh House, The Guildway, Old Portsmouth Road, Guildford, Surrey GU3 1LR, United Kingdom

Underwriters Laboratory International Italia S.r.l., Via Archimede 42, 1-20041 Agrate Brianza, Milan, Italy;

Testing facility: Z.I. Predda Niedda st. 18, I-07100, Sassari, Italy

The current addresses of the two additional UL sites covered by the expansion request are:

Underwriters Laboratories of Canada, 7 Crouse Road, Scarborough, Ontario, Canada MIR 3A9

UL Japan Co., Ltd., Shimbashi Ekimae Bldg.-1 Gohkan, 4th floor, Room 402, 2-20-15 Shimbashi Minato Ku, Tokyo 105-0004, Japan

General Background on the Applicant and Applications

When OSHA published its regulations for the NRTL Program at 29 CFR 1910.7, it temporarily recognized UL as a nationally recognized testing laboratory for a five year period from June 13, 1988, through June 13, 1993 (see Appendix A to § 1910.7). In Appendix A, OSHA also required that UL apply for renewal of its OSHA recognition at the end of this temporary period. UL did apply for the renewal, which OSHA announced in March 29, 1995 (60 FR 16171). In its renewal application, UL stated that it was founded in 1894. It also stated that its “principal activity is investigating the safety of many kinds of products, including electrical and electronic equipment and products,” and a number of other products and systems. The Agency granted UL's renewal for a period of five years ending on June 29, 2000.

Appendix A to 29 CFR 1910.7 stipulates that the period of recognition of an NRTL is five years and that an NRTL may renew its recognition by applying not less than nine months, nor more than one year, before the expiration date of its current recognition. UL has submitted a request, dated September 17, 1999 (see Exhibit 23), to renew its recognition, within the time allotted, and retains its recognition pending OSHA's final decision in this renewal process. UL's existing scope of recognition consists of the facilities listed above, and the test standards and supplemental programs, listed below under Renewal of Recognition.

UL also has submitted requests, dated June 6, and October 5, 2000 (see Exhibits 23-1 and 23-2), to expand its recognition to include the two additional sites listed above. Moreover, UL has submitted a request, dated March 29, 2001 (see Exhibit 23-3), to expand its recognition to include 142 additional test standards. The OSHA NRTL Program staff has determined that it can grant recognition for 64 test standards listed below under Expansion of Recognition. We could not approve the remaining test standards for various reasons, primarily because we determined that they did not meet our approval criteria or our requirements for “appropriate test standards,” within the meaning of 29 CFR 1910.7(c). The staff makes such determinations in processing applications from any NRTL.

Renewal of Recognition

UL seeks renewal of its recognition for the ten sites that OSHA has previously recognized. The renewal of each of these sites is and would continue to be limited to performing testing only to the test standards for which the site has the proper capability and control programs and for which OSHA has recognized UL. This treatment is consistent with the recognition that OSHA has granted to other NRTLs that operate multiple sites.

In processing UL's renewal request, OSHA NRTL Program staff performed an on-site review of UL's Northbrook facility on July 16-20, 2001. In the on-site review report (see Exhibit 24), the program staff recommended a “positive finding,” which means a positive recommendation to the Assistant Secretary regarding the renewal of recognition.

UL also seeks renewal of its recognition for testing and certification of products for demonstration of conformance to the following 638 test standards, which OSHA has previously recognized for UL. Except as explained below (see paragraph immediately following listing of standards), all these standards are “appropriate,” within the meaning of 29 CFR 1910.7(c).

ANSI C37.013 ⁽¹⁾ AC High-Voltage Generator Circuit Breakers Rated on a Symmetrical Current Basis

ANSI C37.13 ⁽¹⁾ Low Voltage AC Power Circuit Breakers Used in Enclosures

ANSI C37.14 ⁽¹⁾ Low Voltage DC Power Circuit Breakers Used in Enclosures

ANSI C37.17 ⁽¹⁾ Trip Devices for AC and General Purpose DC Low-Voltage Power Circuit Breakers

ANSI C37.18 ⁽¹⁾ Enclosed Field Discharge Circuit Breakers for Rotating Electric Machinery

ANSI C37.20.1 ⁽¹⁾ Metal-Enclosed Low-Voltage Power Circuit Breaker Switchgear

ANSI C37.20.2 ⁽¹⁾ Metal-Clad and Station-Type Cubicle Switchgear

ANSI C37.20.3 ⁽¹⁾ Metal-Enclosed Interrupter Switchgear

ANSI C37.21 ⁽¹⁾ Control Switchboards

ANSI C37.29 ⁽¹⁾ Low-Voltage AC Power Circuit Protectors Used in Enclosures

ANSI C37.38 ⁽¹⁾ Gas-Insulated, Metal-Enclosed Disconnecting, Interrupter and Grounding Switches

ANSI C37.42 ⁽¹⁾ Distribution Cutouts and Fuse Links

ANSI C37.44 ⁽¹⁾ Distribution Oil Cutouts and Fuse Links

ANSI C37.45 ⁽¹⁾ Distribution Enclosed Single-Pole Air Switches

ANSI C37.46 ⁽¹⁾ Power Fuses and Fuse Disconnecting Switches

ANSI C37.47 ⁽¹⁾ Distribution Fuse Disconnecting Switches, Fuse Supports, and Current-Limiting Fuses

ANSI C37.50 ⁽¹⁾ Low-Voltage AC Power Circuit Breakers Used in Enclosures—Test Procedures

ANSI C37.51 ⁽¹⁾ Metal-Enclosed Low-Voltage AC Power Circuit-Breaker Switchgear Assemblies—Conformance Test Procedures

ANSI C37.52 ⁽¹⁾ Low-Voltage AC Power Circuit Protectors Used in Enclosures—Test Procedures

ANSI C37.53.1 ⁽¹⁾ High-Voltage Current Motor-Starter Fuses—Conformance Test Procedures

ANSI C37.54 ⁽¹⁾ Indoor Alternating-Current High Voltage Circuit Breakers Applied as Removable Elements in Metal-Enclosed Switchgear Assemblies-Conformance Test Procedures

ANSI C37.55 ⁽¹⁾ Metal-Clad Switchgear Assemblies—Conformance Test Procedures

ANSI C37.57 ⁽¹⁾ Metal-Enclosed Interrupter Switchgear Assemblies—Conformance Testing

ANSI C37.58 ⁽¹⁾ Indoor AC Medium-Voltage Switches for Use in Metal-Enclosed Switchgear—Conformance Test Procedures

ANSI C37.60 ⁽¹⁾ Overhead, Pad-Mounted, Dry-Vault, and Submersible Automatic Circuit Reclosers and Fault Interrupters for AC Systems

ANSI C37.66 ⁽¹⁾ Oil-Filled Capacitor Switches for Alternating-Current Systems—Requirements

ANSI C37.71 ⁽¹⁾ Three Phase, Manually Operated Subsurface Load Interrupting Switches for Alternating-Current Systems

ANSI C37.72 ⁽¹⁾ Manually-Operated Dead-Front, Pad-Mounted Switchgear with Load-Interrupting Switches and Separable Connectors for Alternating-Current System

ANSI C37.90 ⁽¹⁾ Relays and Relay Systems Associated with Electric Power Apparatus

ANSI C37.121 ⁽¹⁾ Unit Substations—Requirements

ANSI C37.122 ⁽¹⁾ Gas-Insulated Substations

ANSI C57.12.00 ⁽¹⁾ Distribution, Power and Regulating Transformers—General Requirements

ANSI C57.12.13 ⁽¹⁾ Liquid-Filled Transformers Used in Unit Installations including Unit Substations—Conformance Requirements

ANSI C57.12.20 ⁽¹⁾ Overhead-Type Distribution Transformers, 500 kVA and Smaller

ANSI C57.12.21 ⁽¹⁾ Pad-Mounted Compartmental-Type Self-Cooled Single-Phase Distribution Transformers with High Voltage Bushings; 167 kVA and Smaller

ANSI C57.12.22 ⁽¹⁾ Pad-Mounted Compartmental-Type, Self-Cooled, Three-Phase Distribution Transformers with High Voltage Bushings; 2500 kVA and Smaller

ANSI C57.12.23 ⁽¹⁾ Underground-Type Self-Cooled, Single-Phase Distribution Transformers with Separable Insulated High-Voltage Connectors; 167 kVA and Smaller

ANSI C57.12.24 ⁽¹⁾ Underground-Type Three-Phase Distribution Transformers, 2500 kVA and Smaller

ANSI C57.12.25 ⁽¹⁾ Pad-Mounted Compartmental-Type Self-Cooled Single-Phase Distribution Transformers with Separable Insulated High-Voltage Connectors; 167 kVA and Smaller

ANSI C57.12.26 ⁽¹⁾ Pad-Mounted Compartmental-Type, Self-Cooled, Three-Phase Distribution Transformers for use with Separable Insulated High-Voltage Connectors; 2500 kVA and Smaller

ANSI C57.12.27 ⁽¹⁾ Liquid-Filled Distribution Transformers Used in Pad-Mounted Installations, Including Unit Substations—Conformance Requirements

ANSI C57.12.28 ⁽¹⁾ Switchgear and Transformers—Pad-Mounted Equipment—Enclosure Integrity

ANSI C57.12.40 ⁽¹⁾ Three Phase Secondary Network Transformers, Subway and Vault Types (Liquid Immersed); 2500 kVA and Smaller

ANSI C57.12.50 ⁽¹⁾ Ventilated Dry-Type Distribution Transformers, 1 to 500 kVA, Single-Phase; and 15 to 500 kVA, Three Phase

ANSI C57.12.51 ⁽¹⁾ Ventilated Dry-Type Power Transformers 501 kVA and Larger, Three-Phase

ANSI C57.12.52 ⁽¹⁾ Sealed Dry-Type Power Transformers, 501 kVA and Larger, Three-Phase

ANSI C57.12.55 ⁽¹⁾ Dry-Type Transformers in Unit Installations, Including Unit Substations—Conformance Requirements

ANSI C57.12.57 ⁽¹⁾ Ventilated Dry-Type Network Transformers 2500 kVA and Below, Three-Phase

ANSI C57.13 ⁽¹⁾ Instrument Transformers—Requirements

ANSI C57.15 ⁽¹⁾ Step-Voltage and Induction-Voltage Regulators

ANSI C57.21 ⁽¹⁾ Shunt Reactors Over 500 kVA

ANSI C62.1 ⁽¹⁾ Gapped Silicon-Carbide Surge Arresters for AC Power Circuits

ANSI C62.11 ⁽¹⁾ Metal Oxide Surge Arresters for AC Power Circuits

ANSI K61.1 Storage and Handling of Anhydrous Ammonia (CGA G-2.1)

ANSI Z21.1b Household Cooking Gas Appliances

ANSI Z21.5.1 Gas Clothes Dryers—Type 1

ANSI Z21.5.2 Gas Clothes Dryers—Type 2

ANSI Z21.10.1 Gas Water Heaters—Automatic Storage Type Water Heaters with Inputs of 70,000 Btu Per Hour or Less

ANSI Z21.10.2 Water Heaters—Sidearm Type Water Heaters

ANSI Z21.10.3 Water Heaters—Circulating Tank, Instantaneous and Large Automatic Storage Type Water Heaters

ANSI Z21.11.1 Gas-Fired Room Heaters—Vented Room Heaters

ANSI Z21.11.2 Gas-Fired Room Heaters—Unvented Room Heaters

ANSI Z21.12 Listing Requirements for Draft Hoods

ANSI Z21.13 Gas-Fired Low-Pressure Steam and Hot Water Heating Boilers

ANSI Z21.14 Approval Requirements for Industrial Gas Boilers

ANSI Z21.15 Manually Operated Gas Valves

ANSI Z21.16 Gas Unit Heaters

ANSI Z21.17 Domestic Gas Conversion Burners

ANSI Z21.18 Gas Appliance Pressure Regulators

ANSI Z21.19 Refrigerators Using Gas Fuel

ANSI Z21.20 Automatic Gas Ignition Systems and Components

ANSI Z21.21 Automatic Valves for Gas Appliances

ANSI Z21.22 Relief Valves and Automatic Gas Shutoff Devices for Hot Water Supply System

ANSI Z21.23 Gas Appliance Thermostats

ANSI Z21.24 Metal Connectors for Gas Appliances

ANSI Z21.29 Listing Requirements for Furnace Temperature Limit Controls and Fan Controls

ANSI Z21.35 Gas Filters on Appliances

ANSI Z21.37 Approval Requirements for Dual Oven Type Combination Gas Ranges

ANSI Z21.40.1 Gas-Fired Absorption Summer Air Conditioning Appliances

ANSI Z21.41 Quick-Disconnect Devices for Use with Gas Fuel

ANSI Z21.42 Gas-Fired Illuminating Appliances

ANSI Z21.45 Flexible Connectors of Other Than All-Metal Construction for Gas Appliances

ANSI Z21.47 Gas-Fired Gravity and Forced Air Central Furnaces

ANSI Z21.48 Gas-Fired Gravity and Fan Type Floor Furnaces

ANSI Z21.49 Gas-Fired Gravity and Fan Type Vented Wall Furnaces

ANSI Z21.50 Vented Decorative Gas Appliances

ANSI Z21.53 Gas-Fired Heavy Duty Forced Air Heaters

ANSI Z21.54 Gas Hose Connectors for Portable Outdoor Gas-Fired Appliances

ANSI Z21.55 Gas-Fired Sauna Heaters

ANSI Z21.56 Gas-Fired Pool Heaters

ANSI Z21.57 Recreational Vehicle Cooking Gas Appliances

ANSI Z21.58 Outdoor Cooking Gas Appliances

ANSI Z21.60 Decorative Gas Appliances for Installation in Vented Fireplaces

ANSI Z21.61 Gas-Fired Toilets

ANSI Z21.66 Automatic Vent Damper Devices for Use With Gas-Fired Appliances

ANSI Z21.69 Connectors for Movable Gas Appliances

ANSI Z21.70 Earthquake Actuated Automatic Gas Shutoff Systems

ANSI Z21.74 Portable Refrigerators for Use With HD-5 Propane Gas

ANSI Z21.76 Gas-Fired Unvented Catalytic Room Heaters for Use With Liquefied Petroleum (LP) Gases

ANSI Z83.3 Gas Utilization Equipment in Large Boilers

ANSI Z83.4 Direct Gas-Fired Make-Up Air Heaters

ANSI Z83.6 Gas-Fired Infrared Heaters

ANSI Z83.7 Gas-Fired Construction Heater

ANSI Z83.8 Gas Unit Heaters

ANSI Z83.10 Separated Combustion System Central Furnaces

ANSI Z83.11 Gas Food Service Equipment—Ranges and Unit Broilers

ANSI Z83.17 Direct Gas Fired Door Heaters

ANSI Z83.18 Direct Gas Fired Industrial Air Heaters

UL 1 Flexible Metal Conduit

UL 3 Flexible Nonmetallic Tubing for Electric Wiring

UL 4 Armored Cable

UL 5 Surface Metal Raceways and Fittings

UL 5A Nonmetallic Surface Raceways and Fittings

UL 5B Strut-Type Channel Raceways and Fittings

UL 6 Rigid Metal Conduit

UL 8 Foam Fire Extinguishers

UL 9 Fire Tests of Window Assemblies

UL 10A Tin-Clad Fire Doors

UL 10B Fire Tests of Door Assemblies

UL 13 Power-Limited Circuit Cables

UL 14B Sliding Hardware for Standard, Horizontally Mounted Tin-Clad Fire Doors

UL 14C Swinging Hardware for Standard Tin-Clad Fire Doors Mounted Singly or In Pairs

UL 17 Vent or Chimney Connector Dampers for Oil-Fired Appliances

UL 20 General-Use Snap Switches

UL 21 LP-Gas Hose

UL 22 Amusement and Gaming Machines

UL 25 Meters for Flammable and Combustible Liquids and LP-Gas

UL 30 Metal Safety Cans

UL 33 Heat Responsive Links for Fire-Protection Service

UL 38 Manually Actuated Signalling Boxes for Use With Fire Protective Signalling Systems

UL 44 Rubber-Insulated Wires and Cables

UL 45 Portable Electric Tools

UL 48 Electric Signs

UL 50 Enclosures for Electrical Equipment

UL 51 Power-Operated Pumps for Anhydrous Ammonia and LP-Gas

UL 58 Steel Underground Tanks for Flammable and Combustible Liquids

UL 62 Flexible Cord and Fixture Wire

UL 65 Electric Wired Cabinets

UL 67 Electric Panelboards

UL 69 Electric Fence Controllers

UL 73 Electric-Motor-Operated Appliances

UL 79 Power-Operated Pumps for Petroleum Product Dispensing Systems

UL 80 Steel Inside Tanks for Oil Burner Fuel

UL 82 Electric Gardening Appliances

UL 83 Thermoplastic-Insulated Wires and Cables

UL 87 Power-Operated Dispensing Devices for Petroleum Products

UL 92 Fire Extinguisher and Booster Hose

UL 94 Tests for Flammability of Plastic Materials for Parts in Devices and Appliances

UL 96 Lightning Protection Components

UL 98 Enclosed and Dead-Front Switches

UL 104 Elevator Door Locking Devices and Contacts

UL 109 Tube Fittings for Flammable and Combustible Fluids, Refrigeration Service, and Marine Use

UL 122 Photographic Equipment

UL 123 Oxy-Fuel Gas Torches

UL 125 Valves for Anhydrous Ammonia and LP-Gas (Other Than Safety Relief)

UL 130 Electric Heating Pads

UL 132 Safety Relief Valves for Anhydrous Ammonia and LP-Gas

UL 141 Garment Finishing Appliances

UL 142 Steel Aboveground Tanks for Flammable and Combustible Liquids

UL 144 Pressure Regulating Valves for LP-Gas

UL 147 LP- and MPS-Gas Torches

UL 147A Nonrefillable (Disposable) Type Fuel Gas Cylinder Assemblies

UL 147B Nonrefillable (Disposable) Type Metal Container Assemblies for Butane

UL 150 Antenna Rotators

UL 153 Portable Electric Lamps

UL 154 Carbon Dioxide Fire Extinguishers

UL 155 Tests for Fire Resistance of Vault and File Room Doors

UL 162 Foam Equipment and Liquid Concentrates

UL 174 Household Electric Storage-Tank Water Heaters

UL 180 Liquid-Level Indicating Gauges and Tank-Filling Signals for Petroleum Products

UL 181 Factory-Made Air Ducts and Air Connectors

UL 183 Manufactures Wiring Systems

UL 187 X-Ray Equipment

UL 193 Alarm Valves for Fire-Protection Service

UL 194 Gasketed Joints for Ductile-Iron Pipe and Fittings for Fire Protection Service

UL 197 Commercial Electric Cooking Appliances

UL 198B Class H Fuses

UL 198C High-Interrupting-Capacity Fuses, Current Limiting Type

UL 198D High-Interrupting-Capacity Class K Fuses

UL 198E Class R Fuses

UL 198F Plug Fuses

UL 198G Fuse for Supplementary Overcurrent Protection

UL 198H Class T Fuses

UL 198L DC Fuses for Industrial Use

UL 199 Automatic Sprinklers for Fire-Protection Service

UL 201 Standard for Garage Equipment

UL 203 Pipe Hanger Equipment for Fire-Protection Service

UL 207 Nonelectrical Refrigerant Containing Components and Accessories

UL 209 Cellular Metal Floor Electrical Raceways and Fittings

UL 213 Rubber Gasketed Fittings for Fire-Protection Service

UL 217 Single and Multiple Station Smoke Detectors

UL 218 Fire Pump Controllers

UL 224 Extruded Insulating Tubing

UL 228 Door Closers-Holders, and Integral Smoke Detectors

UL 231 Electrical Power Outlets

UL 234 Low Voltage Lighting Fixtures for Use in Recreational Vehicles

UL 244A Solid-State Controls for Appliances

UL 248-1 Low-Voltage Fuses—Part 1: General Requirements

UL 248-2 Low-Voltage Fuses—Part 2: Class C Fuses

UL 248-3 Low-Voltage Fuses—Part 3: Class CA and CB Fuses

UL 248-4 Low-Voltage Fuses—Part 4: Class CC Fuses

UL 248-5 Low-Voltage Fuses—Part 5: Class G Fuses

UL 248-6 Low-Voltage Fuses—Part 6: Class H Non-Renewable Fuses

UL 248-7 Low-Voltage Fuses—Part 7: Class H Renewable Fuses

UL 248-8 Low-Voltage Fuses—Part 8: Class J Fuses

UL 248-9 Low-Voltage Fuses—Part 9: Class K Fuses

UL 248-10 Low-Voltage Fuses—Part 10: Class L Fuses

UL 248-11 Low-Voltage Fuses—Part 11: Plug Fuses

UL 248-12 Low-Voltage Fuses—Part 12: Class R Fuses

UL 248-13 Low-Voltage Fuses—Part 13: Semiconductor Fuses

UL 248-14 Low-Voltage Fuses—Part 14: Supplemental Fuses

UL 248-15 Low-Voltage Fuses—Part 15: Class T Fuses

UL 248-16 Low-Voltage Fuses—Part 16: Test Limiters

ANSI/NEMA 250 Enclosures for Electrical Equipment

UL 250 Household Refrigerators and Freezers

UL 252 Compressed Gas Regulators

UL 252A Compressed Gas Regulator Accessories

UL 260 Dry Pipe and Deluge Valves for Fire-Protection Service

UL 262 Gate Valves for Fire-Protection Service

UL 268 Smoke Detectors for Fire Protective Signalling Systems

UL 268A Smoke Detectors for Duct Application

UL 291 Automated Teller Systems

UL 294 Access Control System Units

UL 296 Oil Burners

UL 296A Waste Oil-Burning Air-Heating Appliances

UL 297 Portable Medium-Pressure Acetylene Generators

UL 298 Portable Electric Hand Lamps

UL 299 Dry Chemical Fire Extinguishers

UL 300 Fire Testing of Fire Extinguishing Systems for Protection of Restaurant Cooking Areas

UL 305 Panic Hardware

UL 307B Gas Burning Heating Appliances for Manufactured Homes and Recreational Vehicles

UL 310 Electrical Quick-Connect Terminals

UL 312 Check Valves for Fire-Protection Service

UL 325 Door, Drapery, Gate, Louver, and Window Operators and Systems

UL 330 Gasoline Hose

UL 331 Strainers for Flammable Fluids and Anhydrous Ammonia

UL 343 Pumps of Oil-Burning Appliances

UL 346 Waterflow Indicators for Fire Protective Signaling Systems

UL 347 High-Voltage Industrial Control Equipment

UL 351 Electrical Rosettes

UL 353 Limit Controls

UL 355 Electric Cord Reels

UL 360 Liquid Tight Flexible Steel Conduit

UL 363 Knife Switches

UL 365 Police Station Connected Burglar Alarm Units and Systems

UL 372 Primary Safety Controls for Gas- and Oil-Fired Appliances

UL 378 Draft Equipment

UL 385 Play Pipes for Water Supply Testing in Fire Protection Service

UL 391 Solid-Fuel and Combination-Fuel Control and Supplementary Furnaces

UL 393 Indicating Pressure Gauges for Fire Protection Service

UL 399 Drinking-Water Coolers

UL 404 Gauges, Indicating Pressure, for Compressed Gas Service

UL 407 Manifolds for Compressed Gases

UL 412 Refrigeration Unit Coolers

UL 414 Electrical Meter Sockets

UL 416 Refrigerated Medical Equipment

UL 427 Refrigerating Units

UL 429 Electrically Operated Valves

UL 430 Electric Waste Disposers

UL 443 Steel Auxiliary Tanks for Oil-Burner Fuel

UL 444 Communications Cables

UL 448 Pumps for Fire Protection Service

UL 452 Antenna Discharge Units

UL 464 Audible Signal Appliances

UL 466 Electric Scales

UL 467 Electrical Grounding and Bonding Equipment

UL 469 Musical Instruments and Accessories

UL 471 Commercial Refrigerators and Freezers

UL 474 Dehumidifiers

UL 482 Portable Sun/Heat Lamps

UL 484 Room Air Conditioners

UL 486A Wire Connectors and Soldering Lugs for Use With Copper Conductors

UL 486B Wire Connectors for Use With Aluminum Conductors

UL 486C Splicing Wire Connectors

UL 486D Insulated Wire Connectors for Use With Underground Conductors

UL 486E Equipment Wiring Terminals for Use With Aluminum and/or Copper Conductors

UL 489 Molded-Case Circuit Breakers and Circuit-Breaker Enclosures

UL 493 Thermoplastic-Insulated Underground Feeder and Branch-Circuit Cables

UL 495 Power-Operated Dispensing Devices for LP-Gas

UL 496 Edison-Base Lampholders

UL 497 Protectors for Communication Circuits

UL 497A Secondary Protectors for Communication Circuits

UL 497B Protectors for Data Communication and Fire Alarm Circuits

UL 498 Attachment Plugs and Receptacles

UL 499 Electric Heating Appliances

UL 506 Specialty Transformers

UL 507 Electric Fans

UL 508 Electric Industrial Control Equipment

UL 508C Power Conversion Equipment

UL 510 Insulating Tape

UL 511 Porcelain Electrical Cleats, Knobs, and Tubes

UL 512 Fuseholders

UL 514A Metallic Outlet Boxes, Electrical

UL 514B Fittings for Conduit and Outlet Boxes

UL 514C Nonmetallic Outlet Boxes, Flush-Device Boxes and Covers

UL 521 Heat Detectors for Fire Protective Signaling Systems

UL 525 Flame Arresters for Use on Vents of Storage Tanks for Petroleum Oil and Gasoline

UL 539 Single and Multiple Station Heat Detectors

UL 541 Refrigerated Vending Machines

UL 542 Lampholders, Starters, and Starter Holders for Fluorescent Lamps

UL 544 Electric Medical and Dental Equipment

UL 551 Transformer-Type Arc-Welding Machines

UL 555 Fire Dampers

UL 555S Leakage Rated Dampers for Use in Smoke Control Systems

UL 558 Industrial Trucks, Internal Combustion Engine-Powered

UL 561 Floor Finishing Machines

UL 563 Ice Makers

UL 565 Liquid Level Gauges and Indicators for Anhydrous Ammonia and LP-Gas

UL 567 Pipe Connectors for Flammable and Combustible Liquids and LP-Gas

UL 569 Pigtails and Flexible Hoses

UL 574 Electric Oil Heater

UL 583 Electric-Battery-Powered Industrial Trucks

UL 588 Christmas-Tree and Decorative-Lighting Outfits

UL 603 Power Supplies for Use With Burglar-Alarm Systems

UL 609 Local Burglar-Alarm Units and Systems

UL 621 Ice Cream Makers

UL 626 2½ Gallon Stored Pressure Water Type Fire Extinguishers

UL 632 Electrically Actuated Transmitters

UL 634 Connectors and Switches for Use With Burglar-Alarm Systems

UL 635 Insulating Bushings

UL 636 Holdup Alarm Units and Systems

UL 639 Intrusion-Detection Units

UL 644 Container Assemblies for LP-Gas

UL 651 Schedule 40 and 80 Rigid PVC Conduit

UL 651A Type EB and A Rigid PVC Conduit and HDPE Conduit

UL 664 Commercial (Class IV) Electric Dry-Cleaning Machines

UL 668 Hose Valves For Fire Protection Service

UL 674 Electric Motors and Generators for Use in Hazardous (Classified) Locations

UL 676 Underwater Lighting Fixtures

UL 680 Emergency Vault Ventilators and Vault Ventilating Parts

UL 681 Installation and Classification of Mercantile and Bank Burglar-Alarm Systems

UL 696 Electric Toys

UL 697 Toy Transformers

UL 698 Industrial Control Equipment for Use in Hazardous (Classified) Locations

UL 705 Power Ventilators

UL 710 Grease Extractors for Exhaust Ducts

UL 711 Rating and Fire Testing of Fire Extinguishers

UL 719 Nonmetallic Sheathed Cables

UL 726 Oil-Fired Boiler Assemblies

UL 727 Oil-Fired Central Furnaces

UL 729 Oil-Fired Floor Furnaces

UL 730 Oil-Fired Wall Furnaces

UL 731 Oil-Fired Unit Heaters

UL 732 Oil-Fired Water Heaters

UL 733 Oil-Fired Air Heaters and Direct-Fired Heaters

UL 745-1 Portable Electric Tools

UL 745-2-1 Particular Requirements of Drills

UL 745-2-2 Particular Requirements for Screwdrivers and Impact Wrenches

UL 745-2-3 Particular Requirements for Grinders, Polishers, and Disk-Type Sanders

UL 745-2-4 Particular Requirements for Sanders

UL 745-2-5 Particular Requirements for Circular Saws and Circular Knives

UL 745-2-6 Particular Requirements for Hammers

UL 745-2-8 Particular Requirements for Shears and Nibblers

UL 745-2-9 Particular Requirements for Tappers

UL 745-2-11 Particular Requirements for Reciprocating Saws

UL 745-2-12 Particular Requirements for Concrete Vibrators

UL 745-2-14 Particular Requirements for Planers

UL 745-2-17 Particular Requirements for Routers and Trimmers

UL 745-2-30 Particular Requirements for Staplers

UL 745-2-31 Particular Requirements for Diamond Core Drills

UL 745-2-32 Particular Requirements for Magnetic Drill Presses

UL 745-2-33 Particular Requirements for Portable Bandsaws

UL 745-2-34 Particular Requirements for Strapping Tools

UL 745-2-35 Particular Requirements for Drain Cleaners

UL 745-2-36 Particular Requirements for Hand Motor Tools

UL 745-2-37 Particular Requirements for Plate Jointers

UL 746A Polymeric Materials—Short Term Property Evaluations

UL 746B Polymeric Materials—Long Term Property Evaluations

UL 746C Polymeric Materials—Use in Electrical Equipment Evaluations

UL 746E Polymeric Materials—Industrial Laminates, Filament Wound Tubing, Vulcanized Fibre, and Materials Used in Printed Wiring Boards

UL 749 Household Dishwashers

UL 751 Vending Machines

UL 753 Alarm Accessories for Automatic Water-Supply Control Valves for Fire-Protection Service

UL 756 Coin and Currency Changers and Actuators

UL 763 Motor-Operated Commercial Food Preparing Machines

UL 773 Plug-In Locking-Type Photocontrols for Use With Area Lighting

UL 773A Nonindustrial Photoelectric Switches for Lighting Control

UL 775 Graphic Arts Equipment

UL 778 Motor-Operated Water Pumps

UL 781 Portable Electric Lighting Units for Use in Hazardous (Classified) Locations

UL 783 Electric Flashlights and Lanterns for Use in Hazardous Locations, Class I, Group C and D

UL 791 Residential Incinerators

UL 795 Commercial-Industrial Gas-Heating Equipment

UL 796 Printed-Wiring Boards

UL 797 Electrical Metallic Tubing

UL 810 Capacitors

UL 813 Commercial Audio Equipment

UL 814 Gas-Tube-Sign and Ignition Cable

UL 817 Cord Sets and Power-Supply Cords

UL 823 Electric Heaters for Use in Hazardous (Classified) Locations

UL 826 Household Electric Clocks

UL 827 Central Stations for Watchman, Fire-Alarm, and Supervisory Services

UL 834 Heating, Water Supply, and Power Boilers—Electric

UL 842 Valves for Flammable Fluids

UL 844 Electric Lighting Fixtures for Use in Hazardous (Classified) Locations

UL 845 Electric Motor Control Centers

UL 854 Service Entrance Cable

UL 857 Electric Busways and Associated Fittings

UL 858 Household Electric Ranges

UL 858A Safety-Related Solid-State Controls for Electric Ranges

UL 859 Personal Grooming Appliance

UL 860 Pipe Unions for Flammable and Combustible Fluids and Fire Protection Service

UL 863 Electric Time-Indicating and -Recording Appliances

UL 864 Control Units for Fire-Protective Signaling Systems

UL 867 Electrostatic Air Cleaners

UL 869A Reference Standard for Service Equipment

UL 870 Wireways, Auxiliary Gutters, and Associated Fittings

UL 873 Electrical Temperature-Indicating and -Regulating Equipment

UL 875 Electric Dry Bath Heaters

UL 877 Circuit Breakers and Circuit-Breaker Enclosure for Use in Hazardous (Classified) Locations

UL 879 Electrode Receptacles for Gas-Tube Signs

UL 884 Underfloor Electrical Raceways and Fittings

UL 886 Electrical Outlet Boxes and Fittings for Use in Hazardous (Classified) Locations

UL 887 Delayed-Action Timelocks

UL 891 Dead-Front Electrical Switchboards

UL 894 Switches for Use in Hazardous (Classified) Locations

UL 900 Test Performance of Air-Filter Units

UL 910 Test Method for Fire and Smoke Characteristics of Electrical and Optical Fiber Cables

UL 913 Intrinsically Safe Apparatus and Associated Apparatus for Use in Class I, II, and III, Division I, Hazardous (Classified) Locations

UL 916 Energy Management Equipment

UL 917 Clock-Operated Switches

UL 921 Commercial Electric Dishwashers

UL 923 Microwave Cooking Appliances

UL 924 Emergency Lighting and Power Equipment

UL 935 Fluorescent-Lamp Ballasts

UL 943 Ground-Fault Circuit Interrupters

UL 961 Hobby and Sports Equipment

UL 964 Electrically Heating Bedding

UL 969 Marking and Labeling Systems

UL 977 Fused Power-Circuit Devices

UL 982 Motor-Operated Food Preparing Machines

UL 983 Surveillance Cameras

UL 984 Hermetic Refrigerant Motor-Compressors

UL 985 Household Fire Warning System Units

UL 987 Stationary and Fixed Electric Tools

UL 991 Tests for Safety-Related Controls Employing Solid-State Devices

UL 998 Humidifiers

UL 1002 Electrically Operated Valve for Use in Hazardous (Classified) Locations

UL 1004 Electric Motors

UL 1005 Electric Flatirons

UL 1008 Automatic Transfer Switches

UL 1010 Receptacle-Plug Combinations for Use in Hazardous (Classified) Locations

UL 1012 Power Supplies

UL 1017 Electric Vacuum Cleaning Machines and Blower Cleaners

UL 1018 Electric Aquarium Equipment

UL 1020 Thermal Cutoffs for Use in Electrical Appliances and Components

UL 1022 Line Isolated Monitors

UL 1023 Household Burglar-Alarm System Units

UL 1026 Electric Household Cooking and Food-Serving Appliances

UL 1028 Electric Hair-Clipping and -Shaving Appliances

UL 1029 High-Intensity Discharge Lamp Ballasts

UL 1030 Sheathed Heater Elements

UL 1034 Burglary Resistant Electric Locking Mechanisms

UL 1037 Antitheft Alarms and Devices

UL 1042 Electric Baseboard Heating Equipment

UL 1047 Isolated Power Systems Equipment

UL 1053 Ground-Fault Sensing and Relaying Equipment

UL 1054 Special-Use Switches

UL 1058 Halogenated Agent Extinguishing System Units

UL 1059 Terminal Blocks

UL 1062 Unit Substations

UL 1063 Machine-Tool Wires and Cables

UL 1066 Low-Voltage AC and DC power Circuit Breakers Used in Enclosures

UL 1069 Hospital Signaling and Nurse Call Equipment

UL 1072 Medium Voltage Power Cables

UL 1075 Gas Fired Cooling Appliances for Recreational Vehicles

UL 1076 Proprietary Burglar-Alarm Units and Systems

UL 1077 Supplementary Protectors for Use in Electrical Equipment

UL 1081 Electric Swimming Pool Pumps, Filters and Chlorinators

UL 1082 Household Electric Coffee Makers and Brewing-Type Appliances

UL 1083 Household Electric Skillets and Frying-Type Appliances

UL 1086 Household Trash Compactors

UL 1087 Molded-Case Switches

UL 1088 Temporary Lighting Strings

UL 1090 Electric Snow Movers

UL 1091 Butterfly Valves for Fire Protection Service

UL 1093 Halogenated Agent Fire Extinguishers

UL 1097 Double Insulation Systems for Use in Electrical Equipment

UL 1203 Explosion-Proof and Dust-Ignition-Proof Electrical Equipment for Use in Hazardous (Classified) Locations

UL 1206 Electric Commercial Clothes-Washing Equipment

UL 1207 Sewage Pumps for Use in Hazardous (Classified) Locations

UL 1230 Amateur Movie Lights

UL 1236 Electric Battery Chargers

UL 1238 Control Equipment for Use With Flammable Liquid Dispensing Devices

UL 1240 Electric Commercial Clothes-Drying Equipment

UL 1241 Junction Boxes for Swimming Pool Lighting Fixtures

UL 1242 Intermediate Metal Conduit

UL 1244 Electrical and Electronic Measuring and Testing Equipment

UL 1247 Diesel Engines for Driving Centrifugal Fire Pumps

UL 1248 Engine-Generator Assemblies for Use in Recreational Vehicles

UL 1254 Pre-Engineered Dry Chemical Extinguishing System Units

UL 1261 Electric Water Heaters for Pools and Tubs

UL 1262 Laboratory Equipment

UL 1270 Radio Receivers, Audio Systems, and Accessories

UL 1277 Electrical Power and Control Tray Cables With Optional Optical-Fiber Members

UL 1278 Movable and Wall-or Ceiling-Hung Electric Room Heaters

UL 1283 Electromagnetic-Interference Filter

UL 1286 Office Furnishings

UL 1310 Direct Plug-In Transformer Units

UL 1313 Nonmetallic Safety Cans for Petroleum Products

UL 1314 Special-Purpose Containers

UL 1316 Glass-Fiber-Reinforced Plastic Underground Storage Tanks for Petroleum Products

UL 1322 Fabricated Scaffold Planks and Stages

UL 1323 Scaffold Hoists

UL 1332 Organic Coatings for Steel Enclosures for Outdoor Use Electrical Equipment

UL 1363 Temporary Power Taps

UL 1409 Low-Voltage Video Products Without Cathode-Ray-Tube Displays

UL 1410 Television Receivers and High-Voltage Video Products

UL 1411 Transformers and Motor Transformers for Use in Audio-, Radio-, and Television-Type Appliances

UL 1412 Fusing Resistors and Temperature-Limited Resistors for Radio-, and Television-Type Appliances

UL 1413 High-Voltage Components for Television-Type Appliances

UL 1414 Across-the-Line, Antenna-Coupling, and Line-by-Pass Capacitors for Radio- and Television-Type Appliances

UL 1416 Overcurrent and Overtemperature Protectors for Radio- and Television-Type Appliances

UL 1417 Special Fuses for Radio- and Television-Type Appliances

UL 1418 Implosion-Protected Cathode-Ray Tubes for Television-Type Appliances

UL 1419 Professional Video and Audio Equipment

UL 1424 Cables for Power-Limited Fire-Protective-Signaling Circuits

UL 1429 Pullout Switches

UL 1431 Personal Hygiene and Health Care Appliances

UL 1433 Control Centers for Changing Message Type Electric Signs

UL 1436 Outlet Circuit Testers and Similar Indicating Devices

UL 1437 Electrical Analog Instruments, Panelboard Types

UL 1441 Coated Electrical Sleeving

UL 1445 Electric Water Bed Heaters

UL 1446 Systems of Insulating Materials—General

UL 1447 Electric Lawn Mowers

UL 1448 Electric Hedge Trimmers

UL 1449 Transient Voltage Surge Suppressors

UL 1450 Motor-Operated Air Compressors, Vacuum Pumps and Painting Equipment

UL 1453 Electric Booster and Commercial Storage Tank Water Heaters

UL 1459 Telephone Equipment

UL 1468 Direct-Acting Pressure-Reducing and Pressure-Control Valves for Fire Protection Service

UL 1472 Solid-State Dimming Controls

UL 1474 Adjustable Drop Nipples for Sprinkler Systems

UL 1478 Fire Pump Relief Valves

UL 1480 Speakers for Fire Protective Signaling Systems

UL 1481 Power Supplies for Fire Protective Signaling Systems

UL 1484 Residential Gas Detectors

UL 1486 Quick Opening Devices for Dry Pipe Valves for Fire-Protection Service

UL 1492 Audio and Video Equipment

UL 1557 Electrically Isolated Semiconductor Devices

UL 1558 Metal-Enclosed Low-Voltage Power Circuit Breaker Switchgear

UL 1559 Insect-Control Equipment, Electrocution Type

UL 1561 Large General Purpose Transformers

UL 1562 Transformers, Distribution, Dry Type—Over 600 Volts

UL 1563 Electric Hot Tubs, Spas, and Associated Equipment

UL 1564 Industrial Battery Chargers

UL 1565 Wire Positioning Devices

UL 1567 Receptacles and Switches Intended for Use With Aluminum Wire

UL 1569 Metal-Clad Cables

UL 1570 Fluorescent Lighting Fixtures

UL 1571 Incandescent Lighting Fixtures

UL 1572 High Intensity Discharge Lighting Fixtures

UL 1573 Stage and Studio Lighting Units

UL 1574 Track Lighting Systems

UL 1577 Optical Isolators

UL 1581 Reference Standard for Electrical Wires, Cables, and Flexible Cords

UL 1585 Class 2 and Class 3 Transformers

UL 1594 Sewing and Cutting Machines

UL 1598 Luminaries

UL 1604 Electrical Equipment for Use in Class I and II, Division 2 and Class III Hazardous (Classified) Locations

UL 1610 Central-Station Burglar-Alarm Units

UL 1635 Digital Burglar Alarm Communicator System Units

UL 1637 Home Health Care Signaling Equipment

UL 1638 Visual Signaling Appliances

UL 1647 Motor-Operated Massage and Exercise Machines

UL 1651 Optical Fiber Cable

UL 1660 Liquid-Tight Flexible Nonmetallic Conduit

UL 1662 Electric Chain Saws

UL 1664 Immersion-Detection Circuit-Interrupters

UL 1666 Standard Test for Flame Propagation Height of Electrical and Optical-Fiber Cables Installed Vertically in Shafts

UL 1673 Electric Space Heating Cables

UL 1676 Discharge Path Resistors

UL 1682 Plugs, Receptacles, and Cable Connectors, of the Pin and Sleeve Type

UL 1684 Reinforced Thermosetting Resin Conduit

UL 1690 Data-Processing Cable

UL 1692 Polymeric Materials—Coil Forms

UL 1693 Electric Radiant Heating Panels and Heating Panel Sets

UL 1694 Tests for Flammability of Small Polymeric Component

UL 1703 Flat Plate Photo Voltaic Modules and Panels

UL 1711 Amplifiers for Fire Protective Signaling Systems

UL 1726 Automatic Drain Valves for Standpipe Systems

UL 1727 Commercial Electric Personal Grooming Appliances

UL 1730 Smoke Detector Monitors and Accessories for Individual Living Units of Multifamily Residences and Hotel/Motel Rooms

UL 1738 Venting Systems for Gas-Burning Appliances, Categories II, III, and IV

UL 1739 Pilot-Operated Pressure-Control Valves for Fire-Protection Service

UL 1740 Industrial Robots and Robotic Equipment

UL 1767 Early-Suppression Fast-Response Sprinklers

UL 1769 Cylinder Valves

UL 1773 Termination Boxes

UL 1776 High-Pressure Cleaning Machines

UL 1778 Uninterruptible Power Supply Equipment

UL 1786 Nightlights

UL 1795 Hydromassage Bathtubs

UL 1812 Ducted Heat Recovery Ventilators

UL 1815 Nonducted Heat Recovery Ventilators

UL 1821 Thermoplastic Sprinkler Pipe and Fittings for Fire Protection

UL 1838 Low Voltage Landscape Lighting Systems

UL 1863 Communication Circuit Accessories

UL 1876 Isolating Signal and Feedback Transformers for Use in Electronic Equipment

UL 1889 Commercial Filters for Cooking Oil

UL 1917 Solid-State Fan Speed Controls

UL 1950 Information Technology Equipment Including Electrical Business Equipment

UL 1951 Electric Plumbing Accessories

UL 1963 Refrigerant Recovery/Recycling Equipment

UL 1971 Signaling Devices for the Hearing Impaired

UL 1977 Component Connectors for Use in Data, Signal, Control and Power Applications

UL 1981 Central Station Automation Systems

UL 1993 Self-Ballasted Lamps and Lamp Adapters

UL 1994 Low-Level Path Marking and Lighting Systems

UL 1995 Heating and Cooling Equipment

UL 1996 Duct Heaters

UL 2006 Halon 1211 Recovery/Recharge Equipment

UL 2021 Fixed and Location-Dedicated Electric Room Heaters

UL 2024 Optical Fiber Cable Raceway

UL 2034 Single and Multiple Station Carbon Monoxide Detectors

UL 2044 Commercial Closed Circuit Television Equipment

UL 2061 Adapters and Cylinder Connection Devices for Portable LP-Gas Cylinder Assemblies

UL 2083 Halon 1301 Recovery/Recycling Equipment

UL 2085 Insulated Aboveground Tanks for Flammable and Combustible Liquids

UL 2096 Commercial/Industrial Gas and/or Gas Fired Heating Assemblies with Emission Reduction Equipment

UL 2097 Reference Standard for Double Insulation Systems for Use in Electronic Equipment

UL 2106 Field Erected Boiler Assemblies

UL 2111 Overheating Protection for Motors

UL 2157 Electric Clothes Washing Machines and Extractors

UL 2158 Electric Clothes Dryers

UL 2161 Neon Transformers and Power Supplies

UL 2250 Instrumentation Tray Cable

UL 2601-1 Medical Electrical Equipment, Part 1: General Requirements for Safety

UL 3044 Surveillance Closed Circuit Television Equipment

UL 3101-1 Electrical Equipment for Laboratory Use; Part 1: General Requirements

UL 3111-1 Electrical Measuring and Test Equipment; Part 1: General Requirements

UL 6500 Audio/Video and Musical Instrument Apparatus for Household, Commercial, and Similar General Use

UL 8730-1 Electrical Controls for Household and Similar Use; Part 1: General Requirements

UL 8730-2-3 Automatic Electrical Controls for Household and Similar Use; Part 2: Particular Requirements for Thermal Motor Protectors for Ballasts for Tubular Fluorescent Lamps

UL 8730-2-4 Automatic Electrical Controls for Household and Similar Use; Part 2: Particular Requirements for Thermal Motor Protectors for Motor Compressors or Hermetic and Semi-Hermetic Type

UL 8730-2-7 Automatic Electrical Controls for Household and Similar Use; Part 2: Particular Requirements for Timers and Time Switches

UL 8730-2-8 Automatic Electrical Controls for Household and Similar Use; Part 2: Particular Requirements for Electrically Operated Water Valves

Restrictions/Limitations on Recognition:

(1) These standards are approved for equipment or materials intended for use in commercial and industrial power system applications. These standards are not approved for equipment or materials intended for use in installations that are excluded from the provisions of subpart S in 29 CFR part 1910 by § 1910.302(a)(2).

Note: —Testing and certification of gas operated equipment is limited to equipment for use with “liquefied petroleum gas” (“LPG” or “LP-Gas”)

At the time of preparation of this preliminary notice, some of the test standards for which OSHA currently recognizes UL, and which are listed above, have been withdrawn or replaced by the standards developing organization. Under OSHA policy regarding such withdrawn or replaced test standards, OSHA can no longer recognize the NRTL for the test standards but the NRTL may request recognition for comparable test standards, i.e., other appropriate test standards covering similar types of product testing. However, a number of other NRTLs also are recognized for these withdrawn or replaced standards. As a result, OSHA will publish a separate notice to make the appropriate substitutions for UL and the other NRTLs that were recognized for these standards. However, see footnote (3) at the end of list of standards under the Expansion of Recognition section below.

OSHA's recognition of UL, or any NRTL, for a particular test standard is limited to equipment or materials (i.e., products) for which OSHA standards require third party testing and certification before use in the workplace. Consequently, an NRTL's scope of recognition excludes any product(s) falling within the scope of a test standard for which OSHA has no NRTL testing and certification requirements.

Many of the Underwriters Laboratories (UL) test standards listed above also are approved as American National Standards by the American National Standards Institute (ANSI). However, for convenience in compiling the list, we use the designation of the standards developing organization (e.g., UL 1004) for the standard, as opposed to the ANSI designation (e.g., ANSI/UL 1004). Under our procedures, an NRTL recognized for an ANSI-approved test standard may use either the latest proprietary version of the test standard or the latest ANSI version of that standard, regardless of whether it is currently recognized for the proprietary or ANSI version. Contact ANSI or the ANSI web site (http://www.ansi.org) and click “NSSN” to find out whether or not a test standard is currently ANSI-approved.

Programs and Procedures

The renewal would include UL's continued use of the following supplemental programs and procedures, based upon the criteria detailed in the March 9, 1995 Federal Register notice (60 FR 12980, 3/9/95). This notice lists nine (9) programs and procedures (collectively, programs), eight of which an NRTL may use to control and audit, but not actually to generate, the data relied upon for product certification. An NRTL's initial recognition will always include the first or basic program, which requires that all product testing and evaluation be performed in-house by the NRTL that will certify the product. OSHA has already recognized UL for these programs. See http://www.osha-slc.gov/dts/otpca/nrtl/ul.html.

Program 2: Acceptance of testing data from independent organizations, other than NRTLs.

Program 3: Acceptance of product evaluations from independent organizations, other than NRTLs.

Program 4: Acceptance of witnessed testing data.

Program 5: Acceptance of testing data from non-independent organizations.

Program 6: Acceptance of evaluation data from non-independent organizations (requiring NRTL review prior to marketing).

Program 7: Acceptance of continued certification following minor modifications by the client.

Program 8: Acceptance of product evaluations from organizations that function as part of the International Electrotechnical Commission Certification Body (IEC-CB) Scheme.

Program 9: Acceptance of services other than testing or evaluation performed by subcontractors or agents.

OSHA developed these programs to limit how an NRTL may perform certain aspects of its work and to permit the activities covered under a program only when the NRTL meets certain criteria. In this sense, they are special conditions that the Agency places on an NRTL's recognition. OSHA does not consider these programs in determining whether an NRTL meets the requirements for recognition under 29 CFR 1910.7. However, these programs help to define the scope of that recognition.

Expansion of Recognition

Additional Sites

UL seeks recognition of the additional sites located in Tokyo, Japan, and in Ontario, Canada, as listed earlier in this notice. In processing UL's requests, OSHA NRTL Program staff performed an on-site review of the facility in Ontario on January 22-25, 2001, and a similar review of the facility in Tokyo on March 12-15, 2001. In the on-site review reports (see Exhibits 24-1 and 24-2), the program staff recommended a “positive finding,” which means a positive recommendation on the expansion to the Assistant Secretary.

The application information that UL has submitted for these additional sites and the reports demonstrate the testing and certification capabilities at these sites. The sites are wholly owned or controlled by UL. Similar to the recognition of UL's other sites, OSHA's recognition of the additional sites would be limited to performing product testing only to the test standards for which the site has the proper capability and programs, and for which OSHA has recognized UL. As previously mentioned, this treatment is consistent with the recognition that OSHA has granted to other NRTLs that operate multiple sites. In addition, OSHA would permit the sites to use all eight of the “supplemental” programs, listed earlier in this notice, and use of which OSHA already includes under UL's scope of recognition.

Additional Test Standards

UL also seeks recognition for testing and certification of products for demonstration of conformance to the following 64 test standards, and OSHA has determined the standards are “appropriate,” within the meaning of 29 CFR 1910.7(c).

ANSI/ASME—A17.5 Elevators and Escalator Electrical Equipment

ANSI/BHMA—A156.3 Exit Devices

ANSI C12.1 Code for Electricity Meters

ANSI Z21.1 Household Cooking Gas Appliances

ANSI/NFPA 11 Low Expansion Foam and combined Agent Systems

ANSI/NFPA 11A Medium- and High-Expansion Foam Systems

ANSI/NFPA 12 Carbon Dioxide Extinguishing Systems

ANSI/NFPA 12A Halon 1301 Fire Extinguishing Agent Systems

ANSI/NFPA 13 Installation of Sprinkler Systems

ANSI/NFPA 17 Dry Chemical Extinguishing Systems

ANSI/NFPA 20 Centrifugal Fire Pumps

ANSI/NFPA 72 Installation, Maintenance, and Use of Protective Signaling Systems

UL 6A Electrical Rigid Metal Conduit—Aluminum, Bronze, and Stainless Steel

UL 10C Positive Pressure Fire Tests of Door Assemblies

UL 198M Mine-Duty Fuses

UL 307A Liquid Fuel-Burning Heating Appliances for Manufactured Homes and Recreational Vehicles

UL 497C Protectors for Coaxial Communications Circuits

UL 498A Current Taps and Adapters

UL 514D Cover Plates for Flush-Mounted Wiring Devices

UL 536 Flexible Metallic Hose

UL 606 Linings and Screens for Use with Burglar-Alarm Systems

UL 641 Type L Low-Temperature Venting Systems

UL 651B Continuous Length HDPE Conduit

UL 698A Industrial Control Panels Relating to Hazardous (Classified) Locations

UL 789 Indicator Posts for Fire-Protection Service

UL 797A Electrical Metallic Tubing—Aluminum

UL 896 Oil-Burning Stoves

UL 963 Sealing, Wrapping, and Marking Equipment

UL 1425 Cables for Non-Power Limited Fire-Alarm Circuits

UL 1434 Thermistor-Type Devices

UL 1482 Solid-Fuel Type Room Heaters

UL 1640 Portable Power Distribution Equipment

UL 1653 Electrical Nonmetallic Tubing

UL 1655 Community-Antenna Television Cables

UL 1681 Wiring Device Configurations

UL 1686 Pin and Sleeve Configurations

UL 1699 Arc-Fault Circuit-Interrupters

UL 1741 Power Conditioning Units for Use in Residential Photovoltaic Power Systems

UL 1887 Fire Test of Plastic Sprinkler Pipe for Flame and Smoke Characteristics

UL 2017 General Purpose Signaling Devices and Systems ⁽¹⁾

UL 2089 Vehicle Battery Adapters ⁽²⁾

UL 2125 Motor-Operated Air Compressors for Use in Sprinkler Systems

UL 2127 Inert Gas Clean Agent Extinguishing System Unit

UL 2166 Halocarbon Clean Agent Extinguishing System Units

UL 2200 Stationary Engine Generator Assemblies

UL 2202 Electric Vehicle (EV) Charging System Equipment ⁽⁴⁾

UL 2227 Overfilling Prevention Devices

UL 3121-1 Process Control Equipment

UL 3101-2-20 Electrical Equipment for Laboratory Use, Part 2: Laboratory Centrifuges

UL 60950 Information Technology Equipment ⁽³⁾

UL 8730-2-6 Automatic Electrical Controls for Household and Similar Use; Part 2: Particular Requirements for Automated Electrical Pressure Sensing Controls Including Mechanical Requirements

UL 8730-2-9 Automatic Electrical Controls for Household and Similar Use, Part 2: Particular Requirements for Temperature Sensing Controls

UL 8730-2-14 Automatic Electrical Controls for Household and Similar Use, Part 2: Particular Requirements for Electric Actuators

UL 60335-1 Safety of Household and Similar Electrical Appliances, Part 1: General Requirements

UL 60335-2-34 Household and Similar Electrical Appliances, Part 2: Particular Requirements for Motor-Compressors

UL 60730-1 Automatic Electrical Controls for Household and Similar Use, Part 1: General Requirements

UL 60730-2-3 Automatic Electrical Controls for Household and Similar Use, Part 2: Particular Requirements for Thermal Protectors for Ballasts for Tubular Fluorescent Lamps

UL 60730-2-4 Automatic Electrical Controls for Household and Similar Use, Part 2: Particular Requirements for Thermal Motor Protectors for Motor-Compressors of Hermetic and Semi-Hermetic Type

UL 60730-2-10 Automatic Electrical Controls for Household and Similar Use, Part 2: Particular Requirements for Electrically Operated Motor Starting Relays

UL 60730-2-11 Automatic Electrical Controls for Household and Similar Use, Part 2: Particular Requirements for Energy Regulators

UL 60730-2-12 Automatic Electrical Controls for Household and Similar Use, Part 2: Particular Requirements for Electrically Operated Door Locks

UL 60730-2-13 Automatic Electrical Controls for Household and Similar Use, Part 2: Particular Requirements for Humidity Sensing Controls

UL 60730-2-16 Automatic Electrical Controls for Household and Similar Use, Part 2: Particular Requirements for Automatic Electrical Water Level Operating Controls of the Float Type for Household and Similar Applications

UL 61058-1 Switches for Appliances

(1) Limited to electrical portions only.

(2) This standard is approved for testing and certification of products for use within recreational vehicles and mobile homes.

(3) This standard replaces UL 1950. Upon publication of the final notice for UL's renewal/expansion, the web page of all other NRTLs currently recognized for UL 1950 also will be updated to include UL 60950, due to earlier requests received from some of these other NRTLs for recognition of UL 60950.

(4) The Canadian Standards Association (CSA), another NRTL, had requested recognition for this standard in an expansion application, which OSHA granted on July 3, 2001 (66 FR 35271). However, the standard was mistakenly excluded from the notice but has been added to CSA's scope of recognition.

Preliminary Finding

UL has submitted acceptable requests for renewal and expansion of its recognition as an NRTL. As noted above, in processing these requests, OSHA has performed on-site reviews of certain UL facilities. UL has addressed the discrepancies noted by the assessor following the reviews, and the assessor has included the resolution in the on-site review reports (see Exhibits 24, 24-1, 24-2).

Following a review of the application files, the on-site review reports, and other pertinent information, the NRTL Program staff has concluded that OSHA can grant to UL: (1) the renewal for the 10 sites and the test standards and programs listed above, and (2) the expansion for the additional 2 sites and test standards, also listed above. The staff therefore recommended to the Assistant Secretary that the applications be preliminarily approved.

Based upon the recommendation of the staff, the Assistant Secretary has made a preliminary finding that Underwriters Laboratories Inc. can meet the requirements as prescribed by 29 CFR 1910.7 for the renewal and expansion of its recognition. This preliminary finding does not constitute an interim or temporary approval of the applications for UL.

OSHA welcomes public comments, in sufficient detail, as to whether UL has met the requirements of 29 CFR 1910.7 for the renewal and expansion of its recognition as a Nationally Recognized Testing Laboratory. Your comment should consist of pertinent written documents and exhibits. To consider it, OSHA must receive the comment at the address provided above (see ADDRESSES, no later than the last date for comments (see DATES above). Should you need more time to comment, OSHA must receive your written request for extension at the address provided above (also see ADDRESSES) no later than the last date for comments (also see DATES above). You must include your reason(s) for any request for extension. OSHA will limit an extension to 30 days, unless the requester justifies a longer period. We may deny a request for extension if it is frivolous or otherwise unwarranted. You may obtain or review copies of UL's requests, the on-site review reports, and all submitted comments, as received, by contacting the Docket Office, Room N2625, Occupational Safety and Health Administration, U.S. Department of Labor, at the above address. You should refer to Docket No. NRTL4-93, the permanent record of public information on UL's recognition.

The NRTL Program staff will review all timely comments and, after resolution of issues raised by these comments, will recommend whether to grant UL's renewal and expansion requests. The Assistant Secretary will make the final decision on granting the renewal and expansion and, in making this decision, may undertake other proceedings that are prescribed in Appendix A to 29 CFR Section 1910.7. OSHA will publish a public notice of this final decision in the Federal Register.

Notice of Voluntary Termination

With respect to Docket No. NRTL2-93, Entela, Inc., has requested that OSHA withdraw its recognition of the Entela site in Taipei, Taiwan (see Exhibit 22 in Docket NRTL2-93). This withdrawal is effective immediately, and OSHA will take no further action on it. OSHA recognized this site on May 22, 1997 (62 FR 28066). Under section II.D of Appendix A to 29 CFR 1910.7, OSHA must “inform the public of any voluntary termination by Federal Register notice.” This action is unrelated to our preliminary finding on the UL renewal and expansion requests. We include it herein only for convenience in processing.

Signed at Washington, DC, March 7, 2002.
John L. Henshaw,
Assistant Secretary.

[FR Doc. 02-6447 Filed 3-15-02; 8:45 am]

BILLING CODE 4510-26-P